ENVIRONMENTAL PROTECTION AGENCY

[ER-FRL-6697-9]

Environmental Impacts Statements; Notice of Availability

Responsible Agency: Office of Federal Activities, General Information (202) 564-7167 or http://www.epa.gov/compliance/nepa/.

Weekly receipt of Environmental Impact Statements filed 04/07/2008 through 04/11/2008 pursuant to 40 CFR 1506.9.

EIS No. 20080133, Draft EIS, NPS, TX, Guadalupe Mountains National Park, General Management Plan, Implementation, Culberson and Hudspeth Counties, TX, Comment Period Ends: 06/09/2008, Contact: Roxanne Runkel 303-969-2377.

EIS No. 20080134, Draft EIS, NPS, MI, Sleeping Bear Dunes National Lakeshore, General Management Plan and Wilderness Study, Implementation, Benzie and Leelanau Counties, MI, Comment Period Ends: 06/02/2008, Contact: Nick Chevance 402-661-1844.

EIS No. 20080135, Draft EIS, COE, TN, PROGRAMMATIC—Hydropower Rehabilitations, Dissolved Oxygen and Minimum Flow Regimes at Wolf Creek Dam, Kentucky and Center Hill and Dale Hollow Dams, Tennessee, Implementation, Comment Period Ends: 06/03/2008, Contact: Chip Hall 615-736-7666.

EIS No. 20080136, Draft EIS, BIA, CA, Ione Band of Miwok Indians Project, Proposed 228.04 Acre Fee-to-Trust Land Transfer and Casino Project, Amador County, CA, Comment Period Ends: 07/02/2008, Contact: John Rydzik 916-978-6042.

EIS No. 20080137, Draft EIS, AFS, OR, East Maury Fuels and Vegetation Management Project, Proposed Fuels and Vegetation Treatments Reduce the Risk of Stand Loss, Lookout Mountain Ranger District, Ochoco National Forest, Crook County, OR , Comment Period Ends: 06/02/2008, Contact: Barb Fontaine 541-416-6500.

EIS No. 20080138, Final EIS, NOA, 00, Reef Fish Amendment 30A: Greater Amberjack—Revise Rebuilding Plan, Accountability Measures: Gray Triggerfish-Establish Rebuilding Plan, End Overfishing, Accountability Measures, Regional Management, Management Thresholds and Benchmarks, Gulf of Mexico, Wait Period Ends: 05/19/2008, Contact: Roy E. Crabtree 727-824-5305.

EIS No. 20080139, Draft EIS, FHW, MN, Trunk Highway 23 and U.S. Highway 71 Project, Construction of One or More Grade-Separated Bridge Crossings, Dovre Township, Northeast of Wilmar County, Kandiyohi, MN, Comment Period Ends: 06/02/2008, Contact: Lowell Flaten 320-214-6367.

EIS No. 20080140, Final EIS, DOI, UT, Lower Duchesne River Wetlands Mitigation Project (LDWP), Restoration Measures in the Lower Duchesne River Area, Strawberry Aqueduct and Collection System (SACS) on portion of the Strawberry Reservoir, Implementation, Ute Indian Tribe, NPDES and U.S. Army COE Section 404 Permits, Duchesne, Utah, Uintah Counties, UT , Wait Period Ends: 05/19/2008, Contact: Ralph G.Swanson 801-379-1254.

EIS No. 20080141, Final EIS, TVA, TN, Rutherford-Williamson-Davidson Power Supply Improvement Project, Proposes to Construct and Operate a New 500-kilovolt (kV) Rutherford Substation, a New 27-mile 500-kV Transmission Line and Two New 9- and 15-mile 161-kV Transmission Lines, Rutherford, Williamson and Maury Counties, TN, Wait Period Ends: 05/19/2008, Contact: Anita E. Masters 423-751-8697.

EIS No. 20080142, Final EIS, COE, CA, Carryover Storage and San Vicente Dam Raise Project, Providing Additional Storage Capacity for 100,000 area feet of Water by the Year 2011, Issuance of Permits, Section 10 and 404 Permits, San Diego County, CA, Wait Period Ends: 05/19/2008, Contact: Robert R. Smith 858-674-6784.

EIS No. 20080143, Second Draft Supplement, COE, MA, Boston Harbor Federal Deep Draft Navigation Improvement Project, To Evaluate the Feasibility of Channel Deepening and Related Berth Improvements at the Port of Boston, Chelsea and Revere, Boston, MA, Comment Period Ends: 06/02/2008, Contact: Catherine Rogers 978-318-8231.

EIS No. 20080144, Draft EIS, CGD, FL, Port Dolphin LLC Liquefied Natural Gas Deepwater Port License Application, Proposes to Own, Construct and Operate a Deepwater Port, Outer Continental Shelf, Manatee County, FL, Comment Period Ends: 06/02/2008, Contact: Raymond Martin 202-372-1449.

EIS No. 20080145, Final EIS, FRC, 00, Rockies Express Pipeline Project (REX-East), Construction and Operation of Natural Gas Pipeline Facilities, WY, NE, MO, IL, IN and OH, Wait Period Ends: 05/19/2008, Contact: Andy Black 1-866-208-3372.

EIS No. 20080146, Final EIS, NOA, 00, Amendment 2 to the Consolidated Atlantic Highly Migratory Species Fishery Management Plan, To Implement Management Measures that Prevent Overfishing and Rebuild Overfished Stocks, Implementation, Exclusive Economic Zone (EEZ) of the Atlantic Ocean, Gulf of Mexico and Caribbean Sea, Wait Period Ends: 05/19/2008, Contact: Margo Schulze-Haugen 301-713-2347.

Amended Notices

EIS No. 20080004, Draft EIS, NSA, 00, PROGRAMMATIC—EIS—Complex Transformation, To Make the U.S. Nuclear Weapon Complex Smaller, and more Responsive, Efficient and Secure in Order to Meet National Security Requirements, CA, NV, NM, SC, TN and TX, Comment Period Ends: 4/30/2008, Contact: Theodore A. Wyka 1-800-832-0885 Ext 63519. Revision of FR Notice Published 01/11/2008: Extending Comment Period from 04/09/2008 to 04/30/2008.

EIS No. 20080021, Draft EIS, SFW, AK, Yukon Flats National Wildlife Refuge Project, Proposed Federal and Public Land Exchange, Right-of-Way Grant, Anchorage, AK, Comment Period Ends: 05/19/2008, Contact: Cyndie Wolfe 907-786-3463. Revision of FR Notice Published 01/25/2008: Reopening Comment Period from 03/25/2008 to 05/19/2008.

EIS No. 20080088, Final EIS, FHW, MT, Miller Creek Road Project, To Provide Safe and Improved Access between U.S. 93 and the Miller Creek Area, Missoula County, MT, Wait Period Ends: 05/01/2008, Contact: Craig Genzlinger 406-449-5302 Ext 240. Revision to FR Notice Published 03/14/2008: Extending Comment Period from 04/14/2008 to 05/1/2008.

Dated: April 15, 2008.
Robert W. Hargrove,
Director, NEPA Compliance Division, Office of Federal Activities.

[FR Doc. E8-8397 Filed 4-17-08; 8:45 am]

BILLING CODE 6560-50-P